SMALL BUSINESS ADMINISTRATION

[Disaster Declaration # 20556 and # 20557; VERMONT Disaster Number VT-20003]

Presidential Declaration Amendment of a Major Disaster for Public Assistance Only for the State of Vermont

AGENCY: Small Business Administration.

ACTION: Amendment 1.

SUMMARY: This is an amendment of the Presidential declaration of a major disaster for Public Assistance Only for the State of Vermont (FEMA-4810-DR), dated 08/20/2024.

Incident: Severe Storm, Flooding, Landslides, and Mudslides.

Incident Period: 07/09/2024 through 07/11/2024.

DATES: Issued on 08/22/2024.

Physical Loan Application Deadline Date: 10/21/2024.

Economic Injury (EIDL) Loan Application Deadline Date: 05/20/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of Vermont, dated 08/20/2024, is hereby amended to include the following areas as adversely affected by the disaster.

Primary Counties:

Orange.

All other information in the original declaration remains unchanged.

(Catalog of Federal Domestic Assistance Number 59008)

Francisco Sánchez, Jr.,
Associate Administrator, Office of Disaster Recovery & Resilience.

[FR Doc. 2024-19327 Filed 8-27-24; 8:45 am]

BILLING CODE 8026-09-P